DEPARTMENT OF TRANSPORTATION

Office of the Secretary

Notice of Applications for Certificates of Public Convenience and Necessity and Foreign Air Carrier Permits Filed Under Subpart B (Formerly Subpart Q) During the Week Ending October 7, 2005

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-8445.

Date Filed: October 4, 2005.

Due Date for Answers, Conforming Applications, or Motion to Modify Scope: October 25, 2005.

Description: Application Polar Air Cargo, Inc., requesting renewal of its experimental certificate of public convenience and necessity for Route 626, authorizing it to provide scheduled foreign air transportation of property and mail between the coterminal points Miami, FL and Los Angeles, CA; the intermediate points Curacao, Netherlands Antilles; Santiago, Chile, Barranquilla, Colombia; and Panama City, Panama; and the coterminal points Manaus, Rio je Janeiro and Sao Paulo, Brazil.

Renee V. Wright,
Program Manager, Docket Operations, Federal Register Liaison.

[FR Doc. 05-21536 Filed 10-27-05; 8:45 am]

BILLING CODE 4910-62-P